ENVIRONMENTAL PROTECTION AGENCY

[EPA-HQ-RCRA-2014-0926; FRL-9927-52-OEI]

Information Collection Request Submitted to OMB for Review and Approval; Comment Request; Facility Ground-Water Monitoring Requirements (Renewal)

AGENCY: Environmental Protection Agency (EPA).

ACTION: Notice.

SUMMARY: The Environmental Protection Agency (EPA) has submitted an information collection request (ICR), “Facility Ground-Water Monitoring Requirements (Renewal)” (EPA ICR No. 0959.15, OMB Control No. 2050-0033) to the Office of Management and Budget (OMB) for review and approval in accordance with the Paperwork Reduction Act (44 U.S.C. 3501 et seq.). This is a proposed extension of the ICR, which is currently approved through May 31, 2015. Public comments were previously requested via the Federal Register (80 FR 8307) on February 17, 2015 during a 60-day comment period. This notice allows for an additional 30 days for public comments. A fuller description of the ICR is given below, including its estimated burden and cost to the public. An agency may not conduct or sponsor and a person is not required to respond to a collection of information unless it displays a currently valid OMB control number.

DATES: Additional comments may be submitted on or before June 17, 2015.

ADDRESSES: Submit your comments, referencing Docket ID No. EPA-HQ-RCRA-2014-0926, to (1) EPA online using www.regulations.gov (our preferred method), by email to rcra-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Peggy Vyas, Environmental Protection Agency, 1200 Pennsylvania Ave. NW., Washington, DC 20460; telephone number: 703-308-5477; fax number: 703-308-8433; email address: vyas.peggy@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Subtitle C of the Resource Conservation and Recovery Act (RCRA) creates a comprehensive program for the safe management of hazardous waste. Section 3004 of RCRA requires owners and operators of facilities that treat, store, or dispose of hazardous waste to comply with standards established by EPA that are to protect the environment. Section 3005 provides for implementation of these standards under permits issued to owners and operators by EPA or authorized States. It also allows owners and operators of facilities in existence when the regulations came into effect to comply with applicable notice requirements to operate until a permit is issued or denied. This statutory authorization to operate prior to permit determination is commonly known as “interim status.” Owners and operators of interim status facilities also must comply with standards set under Section 3004.

This ICR examines the ground-water monitoring standards for permitted and interim status facilities at 40 CFR parts 264 and 265, as specified. The ground-water monitoring requirements for regulated units follow a tiered approach whereby releases of hazardous contaminants are first detected (detection monitoring), then confirmed (compliance monitoring), and if necessary, are required to be cleaned up (corrective action). Each of these tiers requires collection and analysis of ground-water samples. Owners or operators that conduct ground-water monitoring are required to report information on releases of contaminants and to maintain records of ground-water monitoring data at their facilities. The goal of the ground-water monitoring program is to prevent and quickly detect releases of hazardous contaminants to groundwater, and to establish a program whereby any contamination is expeditiously cleaned up as necessary to protect human health and environment.

Form Numbers: None.

Respondents/affected entities: Private facilities; and State, Local, or Tribal Governments.

Respondent's obligation to respond: Mandatory (RCRA Sections 3004 and 3005).

Estimated number of respondents: 881 (total).

Frequency of response: quarterly, semi-annually, and annually.

Total estimated burden: 117,027 hours (per year). Burden is defined at 5 CFR 1320.03(b).

Total estimated cost: $22,424,224 (per year), includes $17,870,276 annualized capital or operation & maintenance costs.

Changes in the Estimates: There is an increase of 32,636 hours in the total estimated respondent burden compared with the ICR currently approved by OMB. The reason for the increase is due to an increase in the respondent universe (818 for the previous ICR vs 881 for this renewal), as well as an increase in burden estimates based on consultations with respondents.

Courtney Kerwin,
Acting Director, Collection Strategies Division.

[FR Doc. 2015-11932 Filed 5-15-15; 8:45 am]

BILLING CODE 6560-50-P